DEPARTMENT OF HEALTH AND HUMAN SERVICES

Administration for Community Living

Agency Information Collection Activities; Submission for OMB Review; Public Comment Request; Alzheimer's and Dementia Program Data Reporting Tool (ADP-DRT) OMB Control Number 0985-0022

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the proposed revision for the Alzheimer's and Dementia Program Data Reporting Tool (ADP-DRT) OMB Control Number 0985-0022.

DATES: Comments on the collection of information must be submitted electronically by 11:59 p.m. (EST) or postmarked by January 29, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Erin Long, erin.long@acl.hhs.gov, (202) 795-7389.

SUPPLEMENTARY INFORMATION: In compliance with 44 U.S.C. 3507, the Administration for Community Living (ACL) has submitted the following proposed collection of information to OMB for review and clearance. The Older American's Act requires that ACL evaluate demonstration projects intended to be brought to scale. It also requires prioritization of projects that address the needs of underserved populations and promote partnerships between community-based service providers.

To fulfill the evaluation requirements and allow for optimal federal and state-level management of ACL's Alzheimer's Disease Programs Initiative (ADPI), specific information must be collected from grantees. The current reporting tool is set to expire December 31, 2023. The ADPI Project Officer has reviewed the current data collection procedures to ensure the acceptability of these items as appropriate while minimizing burden for grantees. The result of this process is the proposed modifications to the existing data collection tool. ACL is aware that different grantees have different data collection capabilities. It is understood that, following the approval of the modified data collection tool, ACL will work with its grantees to offer regular training to ensure minimal burden.

This information collection collects demographic data from people receiving programs and services funded by HHS. ACL will adhere to best practices for collection of all demographic information when this information is collected for the programs listed in accordance with OMB guidance.

This includes, but is not limited to, guidance specific to the collection of sexual orientation and gender identity (SOGI) items that align with Executive Order 13985 on Advancing Racial Equity and Support for Underserved Communities Through the Federal Government, Executive Order 14075 on Advancing Equality for Lesbian, Gay, Bisexual, Transgender, Queer, and Intersex Individuals, and Executive Order 13988 on Preventing and Combating Discrimination on the Basis of Gender Identity and Sexual Orientation. Understanding these disparities can and should lead to improved service delivery for ACL's programs and populations served.

Comments in Response to the 60-Day Federal Register Notice

A 60-day FRN published in the FR on October 24, 2023, at 88, FR 73029-73030. ACL received one public comment during the 60-day FRN in support of ACL adhering to the collection of SOGI data.

Estimated Program Burden: ACL estimates the burden associated with this collection of information as follows:

Type of respondent | Form name | Number of respondents | Frequency of response | Average time per response (hours) | Total burden hours (annual)
Grantee | ADSSP-DRT | 69 | 2 | 6.64 | 916.32
Total |  |  |  |  | 916.32

Dated: December 21, 2023.
Alison Barkoff,
Principal Deputy Administrator for the Administration for Community Living, Performing the Delegable Duties of the Administrator and the Assistant Secretary for Aging.

[FR Doc. 2023-28578 Filed 12-27-23; 8:45 am]

BILLING CODE 4154-01-P